DEPARTMENT OF TRANSPORTATION

Federal Transit Administration

Rescinding Notice of Intent To Prepare an Environmental Impact Statement for the Restoration of Rail Service in the Northern Branch Corridor, Hudson and Bergen Counties, New Jersey

AGENCY: Federal Transit Administration (FTA), Department of Transportation (DOT).

ACTION: Rescind notice of intent to prepare an environmental impact statement.

SUMMARY: The FTA, in cooperation with the New Jersey Transit Corporation (NJ TRANSIT), is issuing this Notice to advise the public that we are rescinding the 2007 Notice of Intent (NOI) to prepare an Environmental Impact Statement (EIS) for a previous proposal for the Restoration of Rail Service in the Northern Branch Corridor Project from North Bergen to Englewood in Hudson and Bergen Counties, New Jersey.

FOR FURTHER INFORMATION CONTACT: Donald Burns, FTA Director of Planning and Program Development. Address: One Bowling Green, Room 429, New York, New York, 10004-1415; Email: Donald.Burns@dot.gov; Telephone: (212) 668-2203.

SUPPLEMENTARY INFORMATION: The FTA, as the lead Federal agency, in cooperation with the NJ TRANSIT, published an NOI in the Federal Register on October 2, 2007 (72 FR 56123) to prepare an EIS for the proposed Northern Branch Project. The Northern Branch Project EIS was being advanced to study the restoration of rail passenger service on the Northern Branch rail corridor between North Bergen, Hudson County, and Englewood, Bergen County. Based on FTA's most recent review of the Project, FTA has decided to rescind the NOI due to all-encompassing changes in the Project design and environmental impacts in the following areas: floodplains, stormwater management, cultural resources, hazardous materials, traffic and parking, and air quality, all of which have occurred since 2007.

Comments and questions concerning the proposed action should be directed to FTA at the address provided above.

Donald Burns,
Director of Planning and Program Development Federal Transit Administration—Region II.

[FR Doc. 2023-18485 Filed 8-25-23; 8:45 am]

BILLING CODE P